NATIONAL AERONAUTICS AND SPACE ADMINISTRATION

[Notice (06-066)]

NASA Advisory Council; Meeting.

AGENCY: National Aeronautics and Space Administration.

ACTION: Notice of meeting.

SUMMARY: In accordance with the Federal Advisory Committee Act, Public Law 92-463, as amended, the National Aeronautics and Space Administration announces a meeting of the NASA Advisory Council. The agenda for the meeting includes updates from each of the Council committees, including discussion and deliberation of potential recommendations. The Council Committees address NASA interests in the following areas: Aeronautics, Audit and Finance, Space Exploration, Human Capital, Science, and Space Operations.

DATES: Thursday, October 12, 2006, 8 a.m.-4:30 p.m.

ADDRESSES: Goddard Space Flight Center (GSFC), Building 1, Rooms E100 D and E, 8800 Greenbelt Road, Greenbelt, MD 20771-0001 (Note that visitors will first need to go to the GSFC Visitor's Center to gain access.)

FOR FURTHER INFORMATION CONTACT: Mr. Christopher Blackerby, Designated Federal Official, National Aeronautics and Space Administration, Washington, DC 20546, 202/358-4688.

SUPPLEMENTARY INFORMATION: The meeting will be open to the public up to the seating capacity of the room. All U.S. citizens desiring to attend the NASA Advisory Council Meeting at the Goddard Space Flight Center (GSFC) must provide their full name, company affiliation (if applicable), place of birth, and date of birth to the GSFC Security Office no later than the close of business on October 4, 2006. All non-U.S. citizens must submit their name, current address, citizenship, company affiliation (if applicable) to include address, telephone number, and their title, place of birth, date of birth, U.S. visa information to include type, number, and expiration date, U.S. Social Security Number (if applicable), Permanent Resident Alien card number and expiration date (if applicable), place and date of entry into the U.S., and Passport information to include Country of issue, number, and expiration date to the GSFC Security Office no later than the close of business on September 29, 2006. If the above information is not received by the noted dates, attendees should expect a minimum delay of two (2) hours. All visitors to this meeting will report to the GSFC Visitor Center where they will be processed through security prior to entering GSFC. Please provide the appropriate data, via fax 301-286-1230, noting at the top of the page “Public Admission to the NASA Advisory Council Meeting at GSFC”. For security questions, please call Chuck Lombard at 301-286-1109.

It is imperative that the meeting be held on this date to accommodate the scheduling priorities of the key participants.

P. Diane Rausch,
Advisory Committee Management Officer, National Aeronautics and Space Administration.

[FR Doc. E6-15272 Filed 9-13-06; 8:45 am]

BILLING CODE 7510-13-P